DEPARTMENT OF COMMERCE

National Oceanic and Atmospheric Administration

[RTID 0648-XB317]

Pacific Whiting; Advisory Panel; Joint Management Committee

AGENCY: National Marine Fisheries Service (NMFS), National Oceanic and Atmospheric Administration (NOAA), Commerce.

ACTION: Notice; call for nominations.

SUMMARY: NMFS is soliciting nominations for appointments to the United States Advisory Panel (AP) established in the Agreement between the Government of the United States of America and the Government of Canada on Pacific Hake/Whiting (Pacific Whiting Treaty). Nominations are being sought to fill two positions on the AP; one beginning immediately, and one beginning on December 1, 2021. Terms are 4 years, the position to begin immediately would fill a vacancy of which the appointee would serve the remainder of the term, which began on September 16, 2019. Appointees will be eligible for reappointment at the expiration of the terms.

DATES: Nominations must be received by September 27, 2021.

ADDRESSES: You may submit nominations by the following method:

• Email: frank.lockhart@noaa.gov.

FOR FURTHER INFORMATION CONTACT: Frank Lockhart, (206) 526-6142.

SUPPLEMENTARY INFORMATION:

Background

Pacific Whiting Treaty Committees

The Pacific Whiting Act of 2006 (Pacific Whiting Act) (16 U.S.C. 7001-10) implements the 2003 Agreement between the Government of the United States of America and the Government of Canada on Pacific Hake/Whiting (Agreement). The Agreement establishes the AP and among other provisions, the Pacific Whiting Act provides for United States representation on the AP.

The AP advises the Joint Management Committee on bilateral Pacific whiting management issues. Nine individuals currently represent the United States on the AP, and nominations for two of those individuals (id. at § 7005) is solicited through this notice.

Members appointed to the U.S. sections of the AP will be reimbursed for necessary travel expenses in accordance with Federal Travel Regulations and sections 5701, 5702, 5704 through 5708, and 5731 of Title 5. (Id. at § 7008). NMFS anticipates that one-two meetings of the AP will be held annually, and these meetings will be held in the United States or Canada. AP members will need a valid U.S. passport.

The Pacific Whiting Act of 2006 also states that while performing their appointed duties, members other than officers or employees of the United States Government, shall not be considered to be Federal employees while performing such service, except for purposes of injury compensation or tort claims liability as provided in chapter 81 of title 5 and chapter 171 of title 28. (Id.)

Information on the Pacific Whiting Treaty, including current committee members can be found at: https://www.fisheries.noaa.gov/west-coast/laws-and-policies/pacific-hake-whiting-treaty.

Nominations

Nomination packages for appointments should include:

(1) The name of the applicant or nominee, position they are being nominated for and a description of his/her interest in Pacific whiting; and

(2) A statement of background and/or description of how the following qualifications are met.

Advisory Panel Qualifications

AP member nominees must be knowledgeable or experienced in the harvesting, processing, marketing, management, conservation, or research of the offshore Pacific whiting resource; and must not be employees of the United States Government. Nominees currently active as vessel skippers are encouraged.

Authority: 16 U.S.C. 7001 et seq.

Dated: August 24, 2021.
Jennifer M. Wallace,
Acting Director, Office of Sustainable Fisheries, National Marine Fisheries Service.

[FR Doc. 2021-18535 Filed 8-26-21; 8:45 am]

BILLING CODE 3510-22-P